GENERAL SERVICES ADMINISTRATION

President's Commission on the Celebration of Women in American History

AGENCY: General Services Administration.

ACTION: Meeting notice.

SUMMARY: Notice is hereby given that the President's Commission on the Celebration of Women in American History will hold an open meeting from 1:00 p.m. to 4:30 p.m. on Wednesday, November 15, 2000, at the George Washington University, Marvin Center Room 403.

PURPOSE: To discuss the Commission's final report and how to elaborate its message to the President.

FOR FURTHER INFORMATION CONTACT: Martha Davis (202) 501-0705, Assistant to the Associate Administrator for Communications, General Services Administration. Also, inquiries may be sent to martha.davis@gsa.gov.

Dated: October 17, 2000.
Beth Newburger,
Associate Administrator for Communications.

[FR Doc. 00-27173 Filed 10-20-00; 8:45 am]

BILLING CODE 6820-34-M